DEPARTMENT OF THE INTERIOR

Fish and Wildlife Service

Letters of Authorization To Take Marine Mammals

AGENCY: U.S. Fish and Wildlife Service, Interior.

ACTION: Notice of issuance of a Letter of Authorization to take marine mammals incidental to oil and gas industry activities.

SUMMARY: In accordance with section 101(a)(5)(A) of the Marine Mammal Protection Act of 1972, as amended, and the U.S. Fish and Wildlife Service implementing regulations [50 CFR 18.27(f)(3)], notice is hereby given that a Letter of Authorization to take polar bears incidental to a specific oil and gas industry exploration activity has been issued to the following companies:

Company, Activity, Site, and Date Issued

Phillips Alaska, Inc., Exploration, Nanuq #3, November 16, 2000

BP Exploration (Alaska), Exploration, NPR-A, November 22, 2000

Phillips Alaska, Inc., Exploration, Hunter #1, November 29, 2000

Phillips Alaska, Inc., Exploration, Outlook #1, November 29, 2000

Phillips Alaska, Inc., Exploration, Oxbow #1, November 29, 2000

Phillips Alaska, Inc., Exploration, Rendezvous, November 29, 2000

Phillips Alaska, Inc., Exploration, Spark, November 29, 2000

Phillips Alaska, Inc., Exploration, Sunrise, November 29, 2000

CONTACT: Mr. John W. Bridges at the U.S. Fish and Wildlife Service, Marine Mammals Management Office, 1011 East Tudor Road, Anchorage, Alaska 99503, (800) 362-5148 or (907) 786-3810.

SUPPLEMENTARY INFORMATION: The Letters of Authorization were issued in accordance with U.S. Fish and Wildlife Service Federal Rules and Regulations “Marine Mammals; Incidental Take During Specified Activities (65 FR 16828; March 30, 2000).”

Dated: December 11, 2000.
David B. Allen,
Regional Director.

[FR Doc. 00-33415 Filed 12-29-00; 8:45 am]

BILLING CODE 4310-55-M